DEPARTMENT OF JUSTICE

Antitrust Division

Notice Pursuant to the National Cooperative Research and Production Act of 1993—Cooperative Research Group on CHEDE-VII

Notice is hereby given that, on January 6, 2016, pursuant to section 6(a) of the National Cooperative Research and Production Act of 1993, 15 U.S.C. 4301 et seq. (“the Act”), Southwest Research Institute: Cooperative Research Group on CHEDE-VII (“CHEDE-VII”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Borgwarner, Inc., Auburn Hills, MI; Caterpillar Inc., Peoria, IL; Cummins, Columbus, IN; Federal-Mogul Corporation, Plymouth, MI; Honeywell International, Inc., Torrance, CA; Hyundai Motor Group, Seoul, REPUBLIC OF KOREA; Isuzu, Shanghai, PEOPLE'S REPUBLIC OF CHINA; Jacobs Vehicle Systems, Bloomfield, CT; Lubrizol Corporation, Wickliffe, OH Vandyne Superburbo, Inc., Loveland, CO; and Weichai Power Co. Ltd., Weifang, PEOPLE'S REPUBLIC OF CHINA. The general areas of CHEDE-VII's planned activities are: research activity for diesel combustion system improvements; research activity for dual fuel combustion system improvements; improved fuel efficiency for future diesel and alternative fueled heavy-duty engines; and improved emissions for future diesel and alternative fueled engines.

Patricia A. Brink,
Director of Civil Enforcement, Antitrust Division.

[FR Doc. 2016-01870 Filed 2-1-16; 8:45 am]

BILLING CODE P